DEPARTMENT OF THE INTERIOR

National Park Service

[NPS-WASO-NAGPRA-NPS0028404; PPWOCRADN0-PCU00RP14.R50000]

Notice of Inventory Completion: Nevada State Museum, Carson City, NV

AGENCY: National Park Service, Interior.

ACTION: Notice.

SUMMARY: The Nevada State Museum, Carson City completed an inventory of human remains, in consultation with the appropriate Indian Tribe or Native Hawaiian organizations, and has determined that there is no cultural affiliation between the human remains and any present-day Indian Tribes or Native Hawaiian organizations. Representatives of any Indian Tribe or Native Hawaiian organization not identified in this notice that wish to request transfer of control of these human remains should submit a written request to the Nevada State Museum, Carson City. If no additional requestors come forward, transfer of control of the human remains to the Indian Tribes or Native Hawaiian organizations stated in this notice may proceed.

DATES: Representatives of any Indian Tribe or Native Hawaiian organization not identified in this notice that wish to request transfer of control of these human remains should submit a written request with information in support of their request to the Nevada State Museum, Carson City at the address in this notice by September 4, 2019.

ADDRESSES: Anna J. Camp, Nevada State Museum, 600 North Carson Street, Carson City, NV 89701, telephone (775) 687-4810 Ext. 261, email acamp@nevadaculture.org.

SUPPLEMENTARY INFORMATION: Notice is here given in accordance with the Native American Graves Protection and Repatriation Act (NAGPRA), 25 U.S.C. 3003, of completion of an inventory of human remains under the control of the Nevada State Museum, Carson City, NV. The human remains were removed from the area of Mud Lake Creek, Douglas County, NV.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Nevada State Museum professional staff in consultation with representatives of the Washoe Tribe of Nevada & California (Carson Colony, Dresslerville Colony, Woodfords Community, Stewart Community & Washoe Ranches).

History and Description of the Remains

On November 11, 1996, human remains representing, at minimum, two individuals, were removed from an eroding bank of Mud Lake Creek in Douglas County, NV. The human remains—several rib fragments—were collected by an anonymous private citizen and brought to the Nevada State Museum. They were later discovered in the collections at the Nevada State Museum and rehoused. A note in the file suggests these human remains were found close to an archeological site (26Do524), which contained burials of two adolescent individuals. The excavation of the associated site located nearby was done in conjunction with the Douglas County Sheriff's Department, the Washoe Tribe of Nevada & California, and the Nevada State Museum. No known individuals were identified. No associated funerary objects are present.

Determinations Made by the Nevada State Museum

Officials of the Nevada State Museum have determined that:

• Pursuant to 25 U.S.C. 3001(9), human remains described in this notice are Native American based on the age of 1620±50 ¹⁴C B.P. (radiocarbon years before present), and 1490±50 ¹⁴C B.P. The location of the site was also in close proximity to an excavated Native American burial site.

• Pursuant to 25 U.S.C. 3001(9), human remains described in this notice represent the physical remains of two individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Washoe Tribe of Nevada & California (Carson Colony, Dresslerville Colony, Woodfords Community, Stewart Community & Washoe Ranches).

• Treaties, Acts of Congress, or Executive Orders, indicate that the land from which these Native American human remains were removed is the aboriginal land of the Washoe Tribe of Nevada & California (Carson Colony, Dresslerville Colony, Woodfords Community, Stewart Community & Washoe Ranches).

• Pursuant to 43 CFR 10.11(c)(1), the disposition of the human remains may be to the Washoe Tribe of Nevada & California (Carson Colony, Dresslerville Colony, Woodfords Community, Stewart Community & Washoe Ranches).

Additional Requestors and Disposition

Representatives of any Indian Tribe or Native Hawaiian organization not identified in this notice that wish to request transfer of control of these human remains should submit a written request with information in support of their request to Anna Camp, Nevada State Museum, 600 North Carson Street, NV 89701, telephone (775) 687-4810 Ext. 261, email acamp@nevadaculture.org, by September 4, 2019. After that date, if no additional requestors have come forward, transfer of control of the human remains to the Washoe Tribe of Nevada & California (Carson Colony, Dresslerville Colony, Woodfords Community, Stewart Community & Washoe Ranches) may proceed.

The Nevada State Museum is responsible for notifying the Washoe Tribe of Nevada & California (Carson Colony, Dresslerville Colony, Woodfords Community, Stewart Community & Washoe Ranches) that this notice has been published.

Dated: July 9, 2019.
Melanie O'Brien,
Manager, National NAGPRA Program.

[FR Doc. 2019-16681 Filed 8-2-19; 8:45 am]

BILLING CODE 4312-52-P